DEPARTMENT OF ENERGY

Federal Energy Regulatory Commission

[Project No. 10661-051]

Indiana Michigan Power Company; Notice of Application Tendered for Filing With the Commission and Establishing Procedural Schedule for Licensing and Deadline for Submission of Final Amendments

Take notice that the following hydroelectric application has been filed with the Commission and is available for public inspection.

a. Type of Application: Subsequent License.

b. Project No.: 10661-051.

c. Date Filed: September 30, 2021.

d. Applicant: Indiana Michigan Power Company.

e. Name of Project: Constantine Hydroelectric Project (Constantine Project).

f. Location: The Constantine Project is located on the St. Joseph River in the Village of Constantine in St. Joseph County, Michigan. The project does not occupy federal lands.

g. Filed Pursuant to: Federal Power Act, 16 U.S.C. 791(a)-825(r).

h. Applicant Contact: Jonathan Magalski, Environmental Supervisor, Renewables, Indiana Michigan Power Company; 1 Riverside Plaza, Columbus, Ohio 43215 at (614) 716-2240 or email at jmmagalski@aep.com.

i. FERC Contact: Lee Emery at (202) 502-8379 or email at lee.emery@ferc.gov.

j. This application is not ready for environmental analysis at this time.

k. The Constantine Project consists of: (1) An 525-acre reservoir with a storage capacity of 5,750 acre-feet at a water surface elevation of 782.94 feet National Geodetic Vertical Datum (NGVD); (2) a 561.25-foot-long dam consisting of, from east to west: (a) A 250-foot-long, 22.5-foot-high embankment with a top elevation of 790 feet NGVD, (b) a 241.25-foot-long, 12-foot-high uncontrolled concrete overflow spillway dam with a fixed crest elevation of 781.96 feet NGVD, topped by 0.94-foot-high flashboards with a crest elevation of 782.90 feet NGVD, which includes a 4-foot sluice gate at the left abutment, and (c) a 70-foot-long earthen embankment; (3) a 650-foot-long, 20-foot-high earthen detached dike that begins 1,500 feet east of the left abutment of the spillway dam, with a top elevation of 790 feet NGVD; (4) a 68-foot-long, 20-foot-high concrete headgate structure consisting of seven wooden 15-foot-high vertical slide gates with a sill elevation of 770.00 feet NGVD with six 7.83-foot-long gates and one 6.75-foot-long gate located at the entrance to the power canal; (5) a 1,270-foot-long power canal with a bottom width of 60 feet; (6) a 140-foot-long, 30-foot-wide brick powerhouse; (7) trash racks in front of the forebay at the entrance to the powerhouse; (8) four vertical shaft Francis turbines each coupled to a 300-kilowatt generator, for a total installed capacity of 1.2 megawatts; (11) a switchyard adjacent to the powerhouse with three step-up transformers; (12) a 50-foot-long, 2.4-kilovolt transmission line; and (13) appurtenant facilities.

The Constantine Project is operated in a run-of-river mode with an estimated average annual energy production of 4,933 megawatt-hours. Indiana Michigan Power Company proposes to continue operating the project as a run-of-river facility and does not propose any new construction to the project.

l. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | October 2021.
Request Additional Information | November 2021.
Notice of Acceptance/Notice of Ready for Environmental Analysis | March 2022

o. Final amendments to the application must be filed with the Commission no later than 30 days from the issuance date of the notice of ready for environmental analysis.

Dated: October 6, 2021.
Kimberly D. Bose,
Secretary.

[FR Doc. 2021-22230 Filed 10-12-21; 8:45 am]

BILLING CODE 6717-01-P